DEPARTMENT OF EDUCATION

Office of Elementary and Secondary Education; Overview Information; Early Reading First; Notice Inviting Applications for New Awards for Fiscal Year (FY) 2004

Catalog of Federal Domestic Assistance (CFDA) Number: 84.359A/B.

Dates:

Applications Available: March 8, 2004 (pre- and full applications).

Deadline for Transmittal of Pre-Applications: April 22, 2004.

Deadline for Transmittal of Applications: July 1, 2004 (for applicants invited to submit full applications only).

Deadline for Intergovernmental Review: August 30, 2004.

Eligible Applicants: The term “eligible applicant” means the following: (a) One or more local educational agencies (LEA) that are eligible to receive a subgrant under the Reading First program (title I, part B, subpart 1, Elementary and Secondary Education Act of 1965, as amended (ESEA)), (b) one or more public or private organizations or agencies (including faith-based organizations) located in a community served by an eligible LEA; or (c) one or more of the eligible LEAs, applying in collaboration with one or more of the eligible organizations or agencies. To qualify under (b) of this paragraph, the organization's or agency's application must be on behalf of one or more programs that serve preschool-age children (such as a Head Start program, a child care program, or a family literacy program such as Even Start, or a lab school at a university), unless the organization or agency itself operates a preschool program.

Estimated Available Funds: $94,439,000.

Estimated Range of Awards: $750,000-$4,500,000.

Estimated Average Size of Awards: $2,500,000.

Estimated Number of Awards: 21-125.

Note: The Department is not bound by any estimates in this notice.

Project Period: Up to 36 months.

Full Text of Announcement

I. Funding Opportunity Description

Purpose of Program: This program supports local efforts to enhance the oral language, cognitive, and early reading skills of preschool-age children, especially those from low-income families, through strategies, materials, and professional development that are grounded in scientifically based reading research.

Priorities: Under this competition we are particularly interested in applications that address the following invitational and competitive priorities.

Invitational Priorities: For FY 2004 these priorities are invitational priorities. Under 35 CFR 75.105(c)(1) we do not give an application that meets these invitational priorities a competitive or absolute preference over other applications.

These priorities are:

Invitational Priority 1—Intensity

The Secretary is especially interested in preschool programs that operate full-time, full-year early childhood educational programs, at a minimum of 6.5 hours per day, 5 days per week, 46 weeks per year, and that serve children for the two consecutive years prior to their entry into kindergarten.

Scientifically based research on increasing the effectiveness of early childhood education programs serving children from low-income families tells us that children attending such programs that have a greater intensity of service make higher and more persistent gains in the language and cognitive domains than children who attend early childhood programs that have lesser intensity of service. In other words, children who spend more time in high-quality early childhood education programs learn more than children who spend less time in those programs. The purpose of Invitational Priority 1 is to encourage preschool programs supported with Early Reading First (ERF) funds to provide services that are of a sufficient duration and intensity to maximize language and early literacy gains for children enrolled in those programs.

Invitational Priority 2—Children From Low-Income Families

The Secretary is especially interested in projects in which, in all preschool centers supported by the ERF funds, at least 75 percent of the children enrolled in the preschool qualify to receive free or reduced priced lunches; or at least 75 percent of the children enrolled in the elementary school in the school attendance area in which that center is located qualify to receive free or reduced priced lunches.

One of the statutory purposes of the ERF program is to enhance the early language, literacy, and early reading development of preschool-age children, particularly those from low-income families. This priority is intended to increase the likelihood that preschool programs supported with ERF funds serve children primarily from low-income families.

Competitive Preference Priority: In accordance with 34 CFR 75.105(b)(2)(ii), this priority is from § 75.225 of the Education Department General Administrative Regulations (EDGAR), which apply to this program (34 CFR 75.225).

Competitive Preference Priority—Novice Applicant

For FY 2004 this priority is a competitive preference priority. Under 34 CFR 75.105(c)(2)(i) we award an additional 5 points to a pre-application and an additional 5 points to a full application meeting this competitive priority.

This priority is:

Novice Applicant

The applicant must be a “novice applicant” as defined in 34 CFR 75.225.

Program Authority: 20 U.S.C. 6371-6376.

Applicable Regulations: The Education Department General Administrative Regulations (EDGAR) in 34 CFR parts 74, 75, 77, 79, 80, 81, 82, 84, 85, 86, 97, 98, and 99.

Note: The regulations in 34 CFR part 86 apply to institutions of higher education only.

II. Award Information

Type of Award: Discretionary grant.

Estimated Available Funds: $94,439,000.

Estimated Range of Awards: $750,000-$4,500,000.

Estimated Average Size of Awards: $2,500,000.

Estimated Number of Awards: 21-125.

Note: The Department is not bound by any estimates in this notice.

Project Period: Up to 36 months.

III. Eligibility Information

1. Eligible Applicants: The term “eligible applicant” means the following: (a) One or more LEAs that are eligible to receive a subgrant under the Reading First program (title I, part B, subpart 1, ESEA), (b) one or more public or private organizations or agencies (including faith-based organizations) located in a community served by an eligible LEA; or (c) one or more of the eligible LEAs, applying in collaboration with one or more of the eligible organizations or agencies. To qualify under (b) of this paragraph, the organization's or agency's application must be on behalf of one or more programs that serve preschool-age children (such as a Head Start program, a child care program, or a family literacy program such as Even Start, or a lab school at a university), unless the organization or agency itself operates a preschool program.

2. Cost Sharing or Matching: This program does not involve cost sharing or matching.

IV. Application and Submission Information

1. Address to Request Application Package: You may obtain the application package electronically by downloading it from the ERF Web site: http://www.ed.gov/programs/earlyreading/applicant.html.

You may also contact Education Publications Center (ED Pubs), PO Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application package from ED Pubs, be sure to identify this competition as follows: CFDA number 84.359A/B.

Individuals with disabilities may obtain a copy of the application package in an alternative format (e.g., Braille, large print, audiotape, or computer diskette) by contacting the program contact person listed in section VII of this notice.

2. Content and Form of Application Submission: Requirements concerning the content of the pre-application and the full application, together with the forms you must submit, are in the application package for this program. Page Limits: The pre-application narrative and the full application narrative for this program (Part II of the pre- and full applications) are where you, the applicant, address the selection criteria that reviewers use to evaluate your pre- and full applications. You must limit Part II of the pre-application to the equivalent of no more than 10 pages and Part II of the full application to the equivalent of no more than 35 pages. Part III of the full application is where you, the applicant, provide a budget narrative that reviewers use to evaluate your full application. You must limit the budget narrative in Part III of the full application to the equivalent of no more than 5 pages. Part IV of the full application is where you, the applicant, provide up to 5 resumes (curriculum vita) and the demonstration of stakeholder support for the project that reviewers use to evaluate your full application. You must limit each resume to the equivalent of no more than 3 pages each and limit the demonstration of stakeholder support for the project to the equivalent of no more than 5 pages. For all page limits, use the following standards:

• A “page” is 8.5″ x 11″, on one side only, with 1″ margins at the top, bottom, and both sides.

• Double space (no more than three lines per vertical inch) all text in the application narrative, including titles, headings, quotations, and references included in the body of the narrative.

• Text in endnotes, charts, tables, figures, and graphs may be single-spaced.

• Use a font that is either 12 point or larger or no smaller than 10 pitch (characters per inch).

The page limits do not apply to Part I, the cover sheet and the one-page abstract; or the following portions of the full application: Part III, the budget; or Part IV, the assurances and certifications; and the endnotes.

Our reviewers will not read any pages of your pre-application or full application that—

• Exceed the page limit if you apply these standards; or

• Exceed the equivalent of the page limit if you apply other standards.

3. Submission Dates and Times:

Applications Available: March 8, 2004 (pre- and full applications).

Deadline for Transmittal of Pre-Applications: April 22, 2004.

Deadline for Transmittal of Full Applications: July 1, 2004 (for applicants invited to submit full applications only).

The dates and times for the transmittal of pre- and full applications by mail or by hand (including a courier service or commercial carrier) are in the application package for this program.

We do not consider a pre-application or a full application that does not comply with the deadline requirements.

Deadline for Intergovernmental Review: August 30, 2004.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Instructions and requirements for the transmittal of pre-applications and full applications by mail or by hand (including a courier service or commercial carrier) are in the application package for this program.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications:

We are continuing to expand our pilot project for electronic submission of applications to include additional formula grant programs and additional discretionary grant competitions. Early Reading First—CFDA Number 84.359A/B is one of the programs included in the pilot project. If you are an applicant under Early Reading First, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for Early Reading First and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for Early Reading First at: http://e-grants.ed.gov.

V. Application Review Information

1. Selection Criteria: This program has separate selection criteria for pre-applications and full applications.

A. Pre-applications: The following selection criteria for pre-applications are in section 75.210 of EDGAR. Further information about each of these selection criteria is in the application package. The maximum score for the pre-application selection criteria is 100 points. The maximum score for each criterion is indicated at the end of that criterion.

(i) Quality of the project design. The Secretary considers the quality of the design of the proposed project. In determining the quality of the design of the proposed project, the Secretary considers the following factor:

(a) The extent to which the proposed project represents an exceptional approach for meeting statutory purposes and requirements. (34 CFR 75.210(c)(2)(xiv))

We will award pre-applicants from 0-70 points for the quality of the project design.

(ii) Quality of project services. The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. (34 CFR 75.210(d)(1),(2))

In addition, the Secretary considers the following factors:

(a) The extent to which the services to be provided by the proposed project reflect up-to-date knowledge from research and effective practice. (34 CFR 75.210(d)(3)(iii))

(b) The likelihood that the services to be provided by the proposed project will lead to improvements in the achievement of students as measured against rigorous academic standards. (34 CFR 75.210(d)(3)(vii))

We will award pre-applicants from 0-30 points for the quality of project services.

B. Full Application: The following selection criteria for those invited to submit full applications are in section 75.210 of EDGAR. Further information about each of these selection criteria is in the application package. The maximum score for each criterion is indicated at the end of the criterion.

(i) Quality of the project design. The Secretary considers the quality of the design of the proposed project. In determining the quality of the design of the proposed project, the Secretary considers the following factor:

(a) The extent to which the proposed project represents an exceptional approach for meeting statutory purposes and requirements. (34 CFR 75.210(c)(2)(xiv))

We will award applicants from 0-35 points for the quality of the project design.

(ii) Quality of project services. The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. (34 CFR 75.210(d)(1),(2))

In addition, the Secretary considers the following factors:

(a) The extent to which the services to be provided by the proposed project reflect up-to-date knowledge from research and effective practice. (34 CFR 75.210(d)(3)(iii))

(b) The likelihood that the services to be provided by the proposed project will lead to improvements in the achievement of students as measured against rigorous academic standards. (34 CFR 75.210(d)(3)(vii))

We will award applicants from 0-15 points for the quality of project services.

(iii) Quality of project personnel. The Secretary considers the quality of the personnel who will carry out the proposed project. In determining the quality of project personnel, the Secretary considers the extent to which the applicant encourages applications for employment from persons who are members of groups that have traditionally been underrepresented based on race, color, national origin, gender, age, or disability. (34 CFR 75.210(e)(1),(2))

In addition, the Secretary considers the following factors:

(a) The qualifications, including relevant training and experience, of the project director or principal investigator. (34 CFR 75.210(e)(3)(i))

(b) The qualifications, including relevant training and experience, of key project personnel. (34 CFR 75.210(e)(3)(ii))

(c) The qualifications, including relevant training and experience, of project consultants or subcontractors. (34 CFR 75.210(e)(3)(iii))

We will award applicants from 0-10 points for the quality of project personnel.

(iv) Adequacy of resources. The Secretary considers the adequacy of resources for the proposed project. In determining the adequacy of resources for the proposed project, the Secretary considers the following factors:

(a) The relevance and demonstrated commitment of each partner in the proposed project to the implementation and success of the project. (34 CFR 75.210(f)(2)(ii))

(b) The extent to which the costs are reasonable in relation to the objectives, design, and potential significance of the proposed project. (34 CFR 75.210(f)(2)(iv))

We will award applicants from 0-10 points for adequacy of resources.

(v) Quality of the management plan. The Secretary considers the quality of the management plan for the proposed project. In determining the quality of the management plan for the proposed project, the Secretary considers the following factors:

(a) The adequacy of the management plan to achieve the objectives of the proposed project on time and within budget, including clearly defined responsibilities, timelines, and milestones for accomplishing project tasks. (34 CFR 75.210(g)(2)(i))

(b) The adequacy of procedures for ensuring feedback and continuous improvement in the operation of the proposed project. (34 CFR 75.210(g)(2)(ii))

(c) The extent to which the time commitments of the project director and principal investigator and other key project personnel are appropriate and adequate to meet the objectives of the proposed project. (34 CFR 75.210(g)(2)(iv))

We will award applicants from 0-10 points for the quality of the management plan.

(vi) Quality of the project evaluation. The Secretary considers the quality of the evaluation to be conducted of the proposed project. In determining the quality of the evaluation, the Secretary considers the following factors:

(a) The extent to which the methods of evaluation are thorough, feasible, and appropriate to the goals, objectives, and outcomes of the proposed project. (34 CFR 75.210(h)(2)(i))

(b) The extent to which the methods of evaluation include the use of objective performance measures that are clearly related to the intended outcomes of the project and will produce quantitative and qualitative data to the extent possible. (34 CFR 75.210(h)(2)(iv))

We will award applicants from 0-10 points for the quality of the project evaluation.

(vii) Significance. The Secretary considers the significance of the proposed project. In determining the significance of the proposed project, the Secretary considers the following factor:

(a) The potential contribution of the proposed project to the development and advancement of theory, knowledge, and practices in the field of study. (34 CFR 75.210(b)(2)(vi))

We will award applicants from 0-10 points for the significance of the proposed project.

VI. Award Administration Information

1. Award Notices: If your pre-application is successful, we notify you in writing and post the list of successful applicants on the ERF Web site at www.ed.gov/programs/earlyreading/awards.html. If your full application is successful, we notify your U.S. Representative and U.S. Senators and send you a Grant Award Notification (GAN). We may also notify you informally.

If your pre-application is not evaluated, or following the submission of your pre-application you are not invited to submit a full application, we notify you. If your full application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. ERF grantees also are required to meet the reporting requirements outlined in section 1225 of the ESEA.

4. Performance Measures: Under the Government Performance and Results Act (GPRA), the Secretary has established the following two measures for evaluating the overall effectiveness of the ERF program: (1) Increasing percentages of preschool-age children will demonstrate age-appropriate oral language skills; and (2) increasing percentages of preschool-age children will demonstrate letter knowledge.

We will expect all grantees to document their success in addressing these performance measures in the annual performance report referred to in section VI.3. of this notice.

VII. Agency Contact

For Further Information Contact: Mary Anne Lesiak, U.S. Department of Education, 400 Maryland Avenue, SW., room 3W240, Washington, DC 20202-6132. Telephone: (202) 260-2195 or by e-mail: MaryAnne.Lesiak@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 3, 2004.
Raymond Simon,
Assistant Secretary for Elementary and Secondary Education.

[FR Doc. 04-5149 Filed 3-5-04; 8:45 am]

BILLING CODE 4000-01-P